ENVIRONMENTAL PROTECTION AGENCY

40 CFR Part 63

[EPA-HQ-OAR-2002-0021; FRL-8249-3]

RIN 2060-AM30

National Emission Standards for Hazardous Air Pollutants: Site Remediation

AGENCY: Environmental Protection Agency (EPA).

ACTION: Final rule.

SUMMARY: This action amends the national emission standards for hazardous air pollutants (NESHAP) for site remediation activities. This final rule revises specific provisions in the rule to resolve issues and questions subsequent to promulgation; correct technical omissions; and correct typographical, cross-reference, and grammatical errors.

DATES: This final rule is effective on November 29, 2006.

ADDRESSES: EPA has established a docket for this action under Docket ID No. EPA-HQ-OAR-2002-0021. All documents in the docket are listed on the http://www.regulations.gov Web site. Although listed in the index, some information is not publicly available, e.g., confidential business information or other information whose disclosure is restricted by statute. Certain other material, such as copyrighted material, is not placed on the Internet and will be publicly available only in hard copy form. Publicly available docket materials are available either electronically through http://www.regulations.gov or in hard copy at the Air & Radiation Docket, Docket ID No. EPA-HQ-OAR-2002-0021, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

Note: The EPA Docket Center suffered damage due to flooding during the last week of June 2006. The Docket Center is continuing to operate. However, during the cleanup, there will be temporary changes to Docket Center telephone numbers, addresses, and hours of operation for people who wish to visit the Public Ready Room to view documents. Consult EPA's Federal Register notice at 71 FR 38147 (July 5, 2006) or the EPA Web site http://www.epa.gov/epahome/dockets.htm for current information on docket status, locations, and telephone numbers.

FOR FURTHER INFORMATION CONTACT: Mr. Greg Nizich, Chemicals and Coatings Group, Sector Policies and Programs Division (E143-01), U.S. EPA, Research Triangle Park, NC 27711, telephone number: (919) 541-3078, facsimile number: (919) 541-0246, electronic mail (e-mail) address: nizich.greg@epa.gov.

SUPPLEMENTARY INFORMATION: Regulated Entities. The regulated categories and entities affected by the NESHAP include:

Category | NAICS ¹ | Examples of regulated entities
Industry | 325211 325192 325188 32411 49311 49319 48611 42269 42271 | Site remediation activities at businesses at which materials containing organic HAP currently are or have been in the past stored, processed, treated, or otherwise managed at the facility. These facilities include: organic liquid storage terminals, petroleum refineries, chemical manufacturing facilities, and other manufacturing facilities with co-located site remediation activities.
Federal Government |  | Federal agency facilities that conduct site remediation activities to clean up materials contaminated with organic HAP.
State/ Local/ Tribal Government |  | Tribal governments that conduct site remediation activities to clean up materials contaminated with organic HAP.
¹ North American Industry Classification System (NAICS) code. Representative industrial codes at which site remediation activities have been or are currently conducted at some but not all facilities under a given code. The list is not necessarily comprehensive as to the types of facilities at which a site remediation cleanup may potentially be required either now or in the future.

This table is not intended to be exhaustive, but rather provides a guide for readers regarding entities likely to be regulated by this action. This table lists the types of entities that we are now aware could potentially be regulated by this action.

A comprehensive list of NAICS codes cannot be compiled for businesses or facilities potentially regulated by the rule due to the nature of activities regulated by the source category. The industrial code alone for a given facility does not determine whether the facility is or is not potentially subject to this final rule. This final rule may be applicable to any type of business or facility at which a site remediation is conducted to clean up media contaminated with organic hazardous air pollutant (HAP) and other hazardous material. Thus, for many businesses and facilities subject to the rule, the regulated sources (i.e., the site remediation activities) are not the predominant activity, process, operation, or service conducted at the facility. In these cases, the industrial code indicates a primary product produced or service provided at the facility rather than the presence of a site remediation at the facility. For example, NAICS code classifications where site remediation activities are currently being performed at some but not all facilities include, but are not limited to, petroleum refineries (NAICS code 32411), industrial organic chemical manufacturing (NAICS code 3251xx), and plastic materials and synthetics manufacturing (NAICS code 3252xx).

However, we are also aware of site remediation activities potentially subject to the rule being performed at facilities listed under NAICS codes for refuse systems, waste management, business services, miscellaneous services, and nonclassifiable.

To determine whether your facility is regulated by the action, you should carefully examine the applicability criteria in the 40 CFR part 63, subpart GGGGG-National Emissions Standards for Hazardous Air Pollutants: Site Remediation. If you have questions regarding the applicability of this action to a particular entity, consult the person listed in the preceding FOR FURTHER INFORMATION CONTACT section.

Worldwide Web (WWW). In addition to being available in the docket, an electronic copy of this final action will also be available on the Worldwide Web through the Technology Transfer Network (TTN). Following signature, a copy of this final rule will be posted on the TTN's policy and guidance page for newly proposed or promulgated rules at the following address: http://www.epa.gov/ttn/oarpg/. The TTN provides information and technology exchange in various areas of air pollution control.

Judicial Review. Under section 307(b)(1) of the Clean Air Act (CAA), judicial review of the final rule is available only by filing a petition for review in the U.S. Court of Appeals for the District of Columbia Circuit by January 29, 2007. Under section 307(d)(7)(B) of the CAA, only an objection to the final rule that was raised with reasonable specificity during the period for public comment can be raised during judicial review. Moreover, under section 307(b)(2) of the CAA, the requirements established by the final rule may not be challenged separately in any civil or criminal proceedings brought by EPA to enforce these requirements.

Organization of This Document. The information presented in this preamble is organized as follows:

I. Background

II. Final Amendments to Rule

A. Applicability Determination for Remediation Activities at Certain Oil and Natural Gas Production Facilities

B. 1 Megagram (Mg) Site Remediation Applicability Exemption

C. Short-Term Site Remediation Exemption (30-day)

D. Point of Determination of Remediation Material VOHAP Concentration

E. Requirements for Equipment Leaks

F. Other Rule Corrections

III. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer Advancement Act

J. Congressional Review Act

I. Background

On October 8, 2003 (68 FR 58172), we issued a NESHAP for site remediation activities (40 CFR part 63, subpart GGGGG). This NESHAP implements section 112(d) of the CAA by requiring owners and operators of facilities that are major sources of HAP emissions and where a site remediation is conducted, that meets the definitions and conditions specified in this rule, to comply with emission standards and work practices for control of HAP reflecting application of the maximum achievable control technology.

After promulgation of subpart 40 CFR part 63, GGGGG, we received questions about our intent and interpretation of specific provisions in the rule. To clarify these issues, we decided that technical amendments to the rule are appropriate. We proposed on May 1, 2006, (71 FR 25531) amendments to subpart GGGGG to clarify certain provisions of the rule and to correct unintentional technical omissions and terminology, typographical, printing, and grammatical errors that we have identified since promulgation of the original rule. A 60-day period, which ended on June 30, 2006, was provided to accept public comments on the proposed amendments to subpart GGGGG. We received comments on the proposed amendments from 12 commenters.

A petition for reconsideration for 40 CFR part, subpart GGGGG was filed by the Sierra Club on December 8, 2003. The amendments to subpart GGGGG promulgated by this action do not address any issues cited in the Sierra Club's petition. We are still reviewing the items for reconsideration and will address them in a future notice.

II. Final Amendments to Rule

We are amending 40 CFR part 63, subpart GGGGG to clarify our intent for applying and implementing specific rule requirements and to correct unintentional technical omissions and editorial errors. This action promulgates our proposed regulatory language for the amendments to subpart GGGGG except for those provisions, as noted below, for which modifications were made to the regulatory language for the final amendments in response to specific public comments. Our original projections for the subpart GGGGG compliance costs, environmental benefits, burden on industry, or the number of affected facilities are not changed by these final amendments.

This final rule promulgated by this action reflects our full consideration of all the comments we received on the amendment proposal. Our responses to all of the substantive public comments on the proposal are presented in a comment summary and response document available in Docket ID No. EPA-HQ-OAR-2002-0021 and at http://www.epa.gov/ttn/atw/siterm/sitermpg.html.

A. Applicability Determination for Remediation Activities at Certain Oil and Natural Gas Production Facilities

The major source determination requirements used for determining the applicability of 40 CFR part 63, subpart GGGGG are amended for certain facilities involved with oil and natural gas production to be consistent with special directives for these facilities in CAA section 112(n)(4)(A). As discussed in the preamble for the proposed amendments (71 FR 25536), in the Oil and Natural Gas Production NESHAP (40 CFR part 63, subpart HH) we address the provisions of CAA section 112(n)(4)(A) by limiting the emission points that are aggregated for the major source status determination of a production field facility to only the glycol dehydration units and storage vessels with flash emission potential, as defined in the rule (see 40 CFR 63.761). Consistent with our approach used for subpart HH, we are amending subpart GGGGG to specify that for a major source status determination of a production field facility, only the HAP emissions from the glycol dehydration units and storage vessels with the potential for flash emissions, as defined in subpart HH, are to be aggregated with the HAP emissions from the site remediation activities at the facility.

Several commenters on the proposed amendments stated that in compliance with the CAA section 112(n)(4) statutory directives, EPA should provide a similar applicability provision in 40 CFR part 63, subpart GGGGG for natural gas transmission and storage facilities consistent with the major source definition in the Natural Gas Transmission and Storage Facilities NESHAP (40 CFR part 63, subpart HHH). We agree that such a provision is appropriate, and are amending subpart GGGGG to specify that for natural gas transmission and storage facilities, HAP emissions are to be aggregated according to the definition of major source in § 63.1271 for a major source determination.

B. 1 Megagram (Mg) Site Remediation Applicability Exemption

The final amendments clarify the 40 CFR part 63, subpart GGGGG language with respect to how the 1 Mg applicability exemption is to be applied at a facility. Under this applicability exemption, site remediation activities conducted at your facility are not subject to the requirements of subpart GGGGG (except for certain recordkeeping requirements) if you determine that the total quantity of the HAP that is contained in the remediation material excavated, extracted, pumped, or otherwise removed during all of the site remediations conducted at your facility is less than 1 Mg annually. This final rule language for the exemption provisions does not change how the 1 Mg limit is applied nor change the documentation requirements for the exemption, but adds clarifying language stating that the 1 Mg limit applies on a facility-wide, annual basis and that there is no restriction to the number of site remediations that can be conducted under the exemption. Also, in response to public comments on the proposed regulatory language, the term “annual” was substituted for “calendar year”, and language was added to the final rule stating that a Title V permit does not have to be reopened or revised solely to include the recordkeeping requirement required for the 1 Mg exemption. However, the recordkeeping requirement must be included in the facility's Title V permit the next time the permit is renewed, reopened, or revised for another reason.

C. Short-Term Site Remediation Exemption (30-Day)

Subpart GGGGG of 40 CFR part 63 is amended to clarify the rule language with respect to our intent for application of the 30-day site remediation exemption, including those situations when the remediation material is transferred off-site. Under this exemption, site remediations at your facility with affected sources subject to regulation under subpart GGGGG that can be completed within 30 days are exempted from having to meet the air emission control requirements specified in this final rule. The final rule language explicitly defines the beginning and end of the 30-day period for the purpose of qualifying for the exemption.

The first day of the 30-day exemption period is defined as the day on which you initiate any action that removes, destroys, degrades, transforms, immobilizes, or otherwise manages the remediation materials. Certain activities that you perform to prepare for the actual cleanup of the contaminated media are not counted as part of the 30-day period. The period of time (i.e., number days) that you are required to perform the following activities are not counted as part of the 30-day interval that cannot be exceeded in order to qualify for the exemption provided that these activities are completed before the actual site cleanup begins: Activities to characterize the type and extent of the contamination by collecting and analyzing samples; activities to obtain permits from Federal, State, or local authorities to conduct the site remediation; activities to schedule workers and necessary equipment; and activities to arrange for contractor or third party assistance in performing the site remediation.

The last day of the 30-day exemption period is defined as the day on which all of the remediation materials generated by the cleanup have been treated or disposed of in a manner such that the organic HAP in the material no longer have a reasonable potential for volatilizing and being released to the atmosphere (e.g., placed in a landfill). The exemption does not apply to a site remediation where the only activities completed during the 30-day period are excavating, pumping, or otherwise removing the remediation material from the contaminated area, and then storing this material on-site (e.g., in waste piles, tanks, or containers) to be treated or disposed at some later date after the end of the 30-day period. In this case, the processes and equipment used for site remediation need to meet the applicable air emission control requirement in 40 CFR part 63, subpart GGGGG (unless the site remediation qualifies for another exemption allowed under the rule).

It was our intent that this exemption be used for those short-term site remediations for which all of the remediation materials generated by the cleanup are treated or disposed within the 30-day period to meet the requirement that the organic HAP constituents in the materials no longer have a reasonable potential for volatilizing and subsequent release to the atmosphere. However, we recognize that in some situations where the remediation materials are shipped off-site for treatment or disposal, unexpected special circumstances beyond the direct control of the facility owner or operator may not allow the final treatment or disposal of the remediation material sent to the off-site location to be completed within the 30-day period required to qualify for the exemption. To address these situations, this final rule includes a provision allowing you to qualify for the exemption provided that all of the remediation material generated by your cleanup is transferred off-site within the 30-day exemption period according to the existing requirements specified in section 63.7936 of subpart GGGGG for remediation material transferred to another party or shipped to another facility. The requirements in section 63.7936 apply to the off-site transfer of remediation materials that have an average total average volatile organic HAP (VOHAP) concentration equal to or greater than 10 parts per million by weight (ppmw), and provide the owner or operator of the affected facility from which the remediation material is transferred with several compliance options. This final rule adds the requirement that you must include in the applicable shipping documentation used to transfer the remediation material off-site, in addition to any notifications and certifications required under section 63.7936, a statement that the shipped material was generated by a site remediation activity subject to the conditions specified for the 30-day exemption. The statement must include the date on which you initiated the site remediation activity generating the shipped remediation materials and the date 30 calendar days following your initiation date.

D. Point of Determination of Remediation Material VOHAP Concentration

Subpart GGGGG of 40 CFR part 63 applies the air emission control requirements for remediation material management units (i.e., tanks, surface impoundments, containers, oil/water separators, organic/water separators and transfer systems) to those units that manage remediation material with an average VOHAP concentration equal to or greater than 500 ppmw. The final rule revises the applicable regulatory language in subpart GGGGG referring to the point at which the facility owner or operator determines the average VOHAP concentration of a remediation material. The final rule implements our original intended VOHAP determination procedure by reinstating the regulatory language and terminology we originally proposed for rule, and removing the term “point-of-extraction” from the rule.

Under the amended 40 CFR part 63, subpart GGGGG, you are required to determine the average total VOHAP concentration of the remediation material at a point prior to or within a remediation material management unit. Thus, once the VOHAP concentration for a remediation material has been determined to be less than 500 ppmw, all remediation material management units downstream from the point of determination that manage this material are no longer required to meet the air emission control requirements in subpart GGGGG unless a remediation process is used that concentrates all, or part of, the remediation material being managed in the unit such that the VOHAP concentration of the material increases to 500 ppmw or more. The amended regulatory language also clarifies that any free product returned to a manufacturing process is no longer subject to the air emission control requirements in subpart GGGGG.

E. Requirements for Equipment Leaks

The final rule adds a compliance option to 40 CFR part 63, subpart GGGGG, air emission control requirements for those affected equipment leak sources already using air pollution controls or work practices to comply with another subpart under 40 CFR part 61 or 40 CFR part 63. Under this option, the affected source is in compliance with subpart GGGGG if the HAP emissions from the affected equipment leak source are controlled in compliance with the applicable standards specified in the other subpart in part 61 or 63 that the affected source is subject. This final rule extends the same compliance option that subpart GGGGG already allows for process vents and remediation material management units to equipment leak sources.

If you choose to comply with this option, you must comply with all of the applicable emissions limitations and work practice standards under the other subpart (e.g., you implement leak detection and control measures to reduce HAP emissions as specified by the applicable subpart). This provision does not apply to any exemption of the affected source from the emissions limitations and work practice standards allowed by the other applicable subpart.

F. Other Rule Corrections

For purposes of implementing the requirements of subpart GGGGG, Table 1 in the rule lists the specific organic chemical compounds, isomers, and mixtures that are HAP. The final rule updates this table to be consistent with EPA's current HAP list. The final rule removes from Table 1 the listings for 1,1-dimethyl hydrazine and methyl ethyl ketone. Both of these organic chemical compounds have been delisted as HAP.

Provisions in 40 CFR part 63, subpart GGGGG related to startup, shutdown, and malfunction plan requirements have been revised, as appropriate, to be consistent with the amendments to the General Provisions under subpart A to 40 CFR part 63 that we promulgated on April 20, 2006 (71 FR 20446).

The final rule includes changes to the cross-reference citations in §§ 63.7938(b)(2), 63.7938(d)(2), 63.7938(d)(3), 63.7941(h), 63.7950(c), 63.7884(b)(2), and Table 3 of the rule to cite the correct provision in 40 CFR part 63, subpart GGGGG that we had intended to be referenced. Also, the final amendments correct terminology, typographical, and grammatical errors in specific provisions of subpart GGGGG that have been identified since the rule was originally promulgated. The final rule replaces the rule language with the correct cross-reference citation, term, or wording, but do not change any of the technical or administrative requirements of the rule.

III. Statutory and Executive Order Reviews

A. Executive Order 12866: Regulatory Planning and Review

This action is not a “significant regulatory action” under the terms of Executive Order 12866 (58 FR 51735, October 4, 1993) and is therefore not subject to review under the Executive Order.

B. Paperwork Reduction Act

This action does not impose any new information collection burden. The final rule results in no changes to the information collection requirements of the existing rule. OMB has previously approved the information collection requirements contained in 40 CFR part 63, subpart GGGGG, under the provisions of the Paperwork Reduction Act, 44 U.S.C. 3501 et seq., and has assigned OMB control number 2060-0534, EPA ICR number 2062.02. A copy of the OMB approved Information Collection Request (ICR) may be obtained from Susan Auby; Collection Strategies Division; U.S. EPA (2822T); 1200 Pennsylvania Ave., NW.; Washington, DC 20460 or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR part 63 are listed in 40 CFR part 9.

C. Regulatory Flexibility Act

The Regulatory Flexibility Act generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For the purposes of assessing the impacts of the final rule on small entities, small entity is defined as: (1) A small business as defined by the Small Business Administration at 13 CFR 121.201; (2) a small governmental jurisdiction that is a government of a city, county, town, school district, or special district with a population of less than 50,000; and (3) a small organization that is any not-for-profit enterprise which is independently owned and operated and is not dominant in its field.

After considering the economic impacts of the final rule on small entities, I certify that this action will not have a significant economic impact on a substantial number of small entities. The small entities that may be directly regulated by the rule include small businesses and small governmental jurisdictions. We have determined that there is little or no impact on any affected small entities because the final rule amends existing regulations to clarify specific provisions and to correct technical omissions and editorial errors.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or to the private sector, of $100 million or more in any 1 year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that the final rule does not contain a Federal mandate that may result in expenditures of $100 million or more for State, local, and tribal governments, in the aggregate, or to the private sector in any 1 year. Thus, the final rule is not subject to the requirements of sections 202 and 205 of the UMRA. In addition, EPA has determined that the final rule contains no regulatory requirements that might significantly or uniquely affect small governments, because they contain no requirements that apply to such governments or impose obligations upon them.

E. Executive Order 13132: Federalism

Executive Order 13132, entitled “Federalism” (64 FR 43255, August 10, 1999) requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

The final rule does not have federalism implications. The final rule does not have substantial direct effects on the States, on the relationship between the national government and the States, or on the distribution of power and responsibilities among the various levels of government, as specified in Executive Order 13132. The final rule does not add any new requirements to the current rule, they only clarify our intent and correct errors. Thus, Executive Order 13132 does not apply to the final amendments.

F. Executive Order 13175: Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” The final rule does not have tribal implications, as specified in Executive Order 13175. This action does not have substantial direct effects on tribal governments, on the relationship between the Federal government and Indian tribes, or on the distribution of power and responsibilities between the Federal government and Indian tribes. Thus, Executive Order 13175 does not apply to the final rule.

G. Executive Order 13045: Protection of Children From Environmental Health and Safety Risks

Executive Order 13045 (62 FR 19885, April 23, 1997) applies to any rule that: (1) Is determined to be “economically significant,” as defined under Executive Order 12866, and (2) concerns an environmental health or safety risk that EPA has reason to believe may have a disproportionate effect on children. If the regulatory action meets both criteria, EPA must evaluate the environmental health or safety effects of the planned rule on children, and explain why the planned regulation is preferable to other potentially effective and reasonably feasible alternatives considered by EPA.

EPA interprets Executive Order 13045 as applying only to those regulatory actions that are based on health or safety risks, such that the analysis required under section 5-501 of the Executive Order has the potential to influence the regulation. The final rule is not subject to the Executive Order because they are based on control technology and not on health or safety risks.

H. Executive Order 13211: Actions That Significantly Affect Energy Supply, Distribution, or Use

This action is not a “significant energy action” as defined in Executive Order 13211, “Actions Concerning Regulations That Significantly Affect Energy Supply, Distribution, or Use” (66 FR 28355, May 22, 2001) because it is not likely to have a significant adverse effect on the supply, distribution, or use of energy because it only clarifies our intent and corrects errors in the existing rule. Further, we have concluded that the final rule is not likely to have any adverse energy effects.

I. National Technology Transfer Advancement Act

Section 12(d) of the National Technology Transfer and Advancement Act of 1995 (NTTAA), Public Law No. 104-113, 15 U.S.C. 272 note) directs EPA to use voluntary consensus standards (VCS) in its regulatory activities, unless to do so would be inconsistent with applicable law or otherwise impractical. The VCS are technical standards (e.g., materials specifications, test methods, sampling procedures, and business practices) that are developed or adopted by one or more VCS bodies. The NTTAA directs EPA to provide Congress, through OMB, explanations when the Agency does not use available and applicable VCS.

This action does not involve any new technical standards or the incorporation by reference of existing technical standards. Therefore, the consideration of VCS is not relevant to this action.

J. Congressional Review Act

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. EPA will submit a report containing the final amendments and other required information to the U.S. Senate, the U.S. House of Representatives, and the Comptroller General of the United States prior to publication of the final amendments in the Federal Register. A major rule cannot take effect until 60 days after it is published in the Federal Register. This action is not a “major rule” as defined by 5 U.S.C. 804(2). These final amendments are effective on November 29, 2006.

List of Subjects in 40 CFR Part 63

Environmental protection, Air pollution control, Hazardous substances, Reporting and recordkeeping requirements.

Dated: November 22, 2006.
Stephen L. Johnson,
Administrator.

For the reasons stated in the preamble, title 40, chapter I, part 63, of the Code of the Federal Regulations is amended as follows:

PART 63—[AMENDED]

1. The authority citation for part 63 continues to read as follows:

Authority: 42 U.S.C. 7401, et seq.

Subpart GGGGG—[Amended]

2. Section 63.7881 is amended by revising paragraphs (a)(3) and (c) to read as follows:

§ 63.7881 Am I subject to this subpart?

(a) * * *

(3) Your facility is a major source of HAP as defined in § 63.2, except as specified in paragraph (a)(3)(i) or (ii) of this section. A major source emits or has the potential to emit any single HAP at the rate of 10 tons (9.07 megagrams) or more per year or any combination of HAP at a rate of 25 tons (22.68 megagrams) or more per year.

(i) For production field facilities, as defined in § 63.761, only the HAP emissions from the glycol dehydration units and storage vessels with the potential for flash emissions (both as defined in § 63.761) shall be aggregated with the HAP emissions from the site remediation activities at the facility for a major source determination.

(ii) For natural gas transmission and storage facilities, HAP emissions shall be aggregated in accordance with the definition of major source in § 63.1271 for a major source determination.

* * * * *

(c) Your site remediation activities are not subject to the requirements of this subpart, except for the recordkeeping requirements in this paragraph, provided that you meet the requirements specified in paragraphs (c)(1) through (c)(3) of this section.

(1) You determine that the total quantity of the HAP listed in Table 1 to this subpart that is contained in the remediation material excavated, extracted, pumped, or otherwise removed during all of the site remediations conducted at your facility is less than 1 megagram (Mg) annually. This exemption applies the 1 Mg limit on a facility-wide, annual basis, and there is no restriction to the number of site remediations that can be conducted during this period.

(2) You must prepare and maintain at your facility written documentation to support your determination that the total HAP quantity in your remediation materials for the year is less than 1 Mg. The documentation must include a description of your methodology and data used for determining the total HAP content of the remediation material.

(3) Your Title V permit does not have to be reopened or revised solely to include the recordkeeping requirement specified in paragraph (c)(2) of this section. However, the requirement must be included in your permit the next time the permit is renewed, reopened, or revised for another reason.

* * * * *

3. Section 63.7884 is revised to read as follows:

§ 63.7884 What are the general standards I must meet for each site remediation with affected sources?

(a) For each site remediation with an affected source designated under § 63.7882, you must meet the standards specified in §§ 63.7885 through 63.7955, as applicable to your affected source, unless your site remediation meets the requirements for an exemption under paragraph (b) of this section.

(b) A site remediation that is completed within 30 consecutive calendar days according to the conditions in paragraphs (b)(1) through (3) of this section is not subject to the standards under paragraph (a) of this section. This exemption cannot be used for a site remediation involving the staged or intermittent cleanup of remediation material whereby the remediation activities at the site are started, stopped, and then re-started in a series of intervals, with durations less than 30-days per interval, when the time period from the beginning of the first interval to the end of the last interval exceeds 30 days.

(1) The 30 consecutive calendar day period for a site remediation that qualifies for this exemption is determined according to actions taken by you as defined in paragraphs (b)(1)(i) through (iii) of this section.

(i) The first day of the 30-day period is defined as the day on which you initiate any action that removes, destroys, degrades, transforms, immobilizes, or otherwise manages the remediation materials. The following activities, when completed before beginning this initial action, are not counted as part of the 30-day period: Activities to characterize the type and extent of the contamination by collecting and analyzing samples; activities to obtain permits from Federal, State, or local authorities to conduct the site remediation; activities to schedule workers and necessary equipment; and activities to arrange for contractor or third party assistance in performing the site remediation.

(ii) The last day of the 30-day period is defined as the day on which treatment or disposal of all of the remediation materials generated by the cleanup is completed such that the organic constituents in these materials no longer have a reasonable potential for volatilizing and being released to the atmosphere.

(iii) If treatment or disposal of the remediation materials is conducted at an off-site facility where the final treatment or disposal of the material cannot, or may not, be completed within the 30-day exemption period, then the shipment of all of the remediation material generated from your cleanup that is transferred to another party, or shipped to another facility, within the 30-day period, must be performed according to the applicable requirements specified in § 63.7936.

(2) For the purpose of complying with paragraph (b)(1) of this section, if you ship or otherwise transfer the remediation material off-site you must include in the applicable shipping documentation, in addition to any notifications and certifications required under § 63.7936, a statement that the shipped material was generated by a site remediation activity subject to the conditions of this exemption. The statement must include the date on which you initiated the site remediation activity generating the shipped remediation materials, as specified in paragraph (b)(1)(i) of this section, and the date 30 calendar days following your initiation date.

(3) You must prepare and maintain at your facility written documentation describing the exempted site remediation, and listing the initiation and completion dates for the site remediation.

4. Section 63.7886 is amended by revising paragraph (b)(2) to read as follows:

§ 63.7886 What are the general standards I must meet for my affected remediation material management units?

* * * * *

(b) * * *

(2) You determine that the average total VOHAP concentration, as defined in § 63.7957, of the remediation material managed in the remediation material management unit material is less than 500 ppmw. You must follow the requirements in § 63.7943 to demonstrate that the VOHAP concentration of the remediation material is less than 500 ppmw. Once the VOHAP concentration for a remediation material has been determined to be less than 500 ppmw, all remediation material management units downstream from the point of determination managing this material meet the requirements of this paragraph unless a remediation process is used that concentrates all, or part of, the remediation material being managed in the unit such that the VOHAP concentration of the material could increase. Any free product returned to the manufacturing process (e.g., recovered oil returned to a storage tank at a refinery) is no longer subject to this subpart.

* * * * *

5. Section 63.7887 is revised to read as follows:

§ 63.7887 What are the general standards I must meet for my affected equipment leak sources?

(a) You must control HAP emissions from equipment leaks from each equipment component that is part of the affected source by implementing leak detection and control measures according to the standards specified in §§ 63.7920 through 63.7922 unless you elect to meet the requirements in paragraph (b) of this section.

(b) If the affected equipment leak source is also subject to another subpart in 40 CFR part 61 or 40 CFR part 63, you may control emissions of the HAP listed in Table 1 to this subpart from the affected equipment leak source in compliance with the standards specified in the other applicable subpart. This means you are complying with all applicable emissions limitations and work practice standards under the other subpart (e.g., you implement leak detection and control measures to reduce HAP emissions as specified by the applicable subpart). This provision does not apply to any exemption of the affected source from the emissions limitations and work practice standards allowed by the other applicable subpart.

6. Section 63.7890 is amended by revising paragraph (b)(2) to read as follows:

§ 63.7890 What emissions limitations and work practice standards must I meet for process vents?

* * * * *

(b) * * *

(2) Reduce from all affected process vents the emissions of total organic compounds (TOC) (minus methane and ethane) to a level below 1.4 kg/hr and 2.8 Mg/yr (3.0 lb/hr and 3.1 tpy); or

* * * * *

7. Section 63.7893 is amended by revising paragraph (b) introductory text to read as follows:

§ 63.7893 How do I demonstrate continuous compliance with the emissions limitations and work practice standards for process vents?

* * * * *

(b) You must maintain emission levels from all of your affected process vents to meet the facilitywide emission limits in § 63.7890(b) that apply to you, as specified in paragraphs (b)(1) through (4) of this section.

* * * * *

8. Section 63.7896 is amended by revising paragraph (b)(2) to read as follows:

§ 63.7896 How do I demonstrate initial compliance with the emissions limitations and work practice standards for tanks?

* * * * *

(b) * * *

(2) You have determined, according to the procedures in § 63.7944, and recorded the maximum HAP vapor pressure of the remediation material placed in each affected tank subject to § 63.7886(b)(1)(i) that does not use Tank Level 2 controls.

* * * * *

9. Section 63.7898 is amended by revising paragraph (e)(2) to read as follows:

§ 63.7898 How do I demonstrate continuous compliance with the emissions limitations and work practice standards for tanks?

* * * * *

(e) * * *

(2) Visually inspecting the external floating roof according to the requirements in § 63.1063(d)(1) and inspecting the seals according to the requirements in § 63.1063(d)(2) and (3).

* * * * *

10. Section 63.7913 is amended by revising paragraph (c) introductory text to read as follows:

§ 63.7913 How do I demonstrate continuous compliance with the emissions limitations and work practice standards for separators?

* * * * *

(c) You must demonstrate continuous compliance for each separator using a fixed roof vented through a closed vent system to a control device according to § 63.7910(b)(2) by meeting the requirements in paragraphs (c)(1) through (6) of this section.

* * * * *

11. Section 63.7915 is amended by revising paragraph (c)(2) to read as follows:

§ 63.7915 What emissions limitations and work practice standards must I meet for transfer systems?

* * * * *

(c) * * *

(2) A transfer system that consists of continuous hard piping. All joints or seams between the pipe sections must be permanently or semi-permanently sealed (e.g., a welded joint between two sections of metal pipe or a bolted and gasketed flange).

* * * * *

12. Section 63.7917 is amended by revising paragraph (c) to read as follows:

§ 63.7917 What are my inspection and monitoring requirements for transfer systems?

* * * * *

(c) If you operate a transfer system consisting of hard piping according to § 63.7915(c)(2), you must annually inspect the unburied portion of pipeline and all joints for leaks and other defects. In the event that a defect is detected, you must repair the leak or defect according to the requirements of paragraph (e) of this section.

* * * * *

13. Section 63.7918 is amended by revising paragraphs (d) and (e) introductory text to read as follows:

§ 63.7918 How do I demonstrate continuous compliance with the emissions limitations and work practice standards for transfer systems?

* * * * *

(d) You must demonstrate continuous compliance for each transfer system that consists of hard piping according to § 63.7915(c)(2) by meeting the requirements in paragraphs (d)(1) through (4) of this section.

(1) Operating and maintaining the pipeline to ensure that all joints or seams between the pipe sections remain permanently or semi-permanently sealed (e.g., a welded joint between two sections of metal pipe or a bolted and gasketed flange).

(2) Inspecting the pipeline for defects at least annually according to the requirements in § 63.7917(c).

(3) Repairing defects according to the requirements in § 63.7917(e).

(4) Keeping records to document compliance with the requirements of this subpart according to the requirements in § 63.7952.

(e) You must demonstrate continuous compliance for each transfer system that is enclosed and vented to a control device according to § 63.7915(c)(3) by meeting the requirements in paragraphs (e)(1) through (5) of this section.

* * * * *

14. Section 63.7927 is amended by revising paragraph (b)(3) to read as follows:

§ 63.7927 What are my inspection and monitoring requirements for closed vent systems and control devices?

* * * * *

(b) * * *

(3) Use a CPMS to measure and record the hourly average temperature of the adsorption bed after regeneration (and within 15 minutes after completing any cooling cycle).

* * * * *

15. Section 63.7928 is amended by revising paragraphs (b)(6) and (7) and (c) introductory text to read as follows:

§ 63.7928 How do I demonstrate continuous compliance with the emissions limitations and work practice standards for closed vent systems and control devices?

* * * * *

(b) * * *

(6) If the closed vent system is equipped with a flow indicator, recording the information in § 63.693(c)(2)(i).

(7) If the closed vent system is equipped with a seal or locking device, visually inspecting the seal or closure mechanism at least monthly according to the requirements in § 63.693(c)(2)(ii), and recording the results of each inspection.

(c) You must demonstrate continuous compliance of each control device subject to the emissions limits in § 63.7925(d) with the applicable emissions limit in § 63.7925(d) by meeting the requirements in paragraph (c)(1) or (2) of this section.

* * * * *

16. Section 63.7935 is amended by revising paragraphs (c) and (f) to read as follows:

§ 63.7935 What are my general requirements for complying with this subpart?

* * * * *

(c) You must develop a written startup, shutdown, and malfunction plan (SSMP) according to the provisions in § 63.6(e)(3).

* * * * *

(f) Consistent with §§ 63.6(e) and 63.7(e)(1), deviations that occur during a period of startup, shutdown, or malfunction are not violations if you demonstrate to the Administrator's satisfaction that you were operating in accordance with § 63.6(e)(1). We will determine whether deviations that occur during a period of startup, shutdown, or malfunction are violations, according to the provisions in § 63.6(e).

* * * * *

17. Section 63.7937 is amended by revising paragraphs (c)(2) and (c)(4)(ii) to read as follows:

§ 63.7937 How do I demonstrate initial compliance with the general standards?

* * * * *

(c) * * *

(2) If the remediation material managed in the affected remediation material management unit has an average total VOHAP concentration less than 500 ppmw according to § 63.7886(b)(2), you have submitted as part of your notification of compliance status, specified in § 63.7950, a signed statement that you have determined, according to the procedures in § 63.7943, and recorded the average VOHAP concentration of the remediation material placed in the affected remediation material management unit.

* * * * *

(4) * * *

(ii) You will monitor the biological treatment process conducted in each unit according to the requirements in § 63.684(e)(4).

* * * * *

18. Section 63.7938 is amended by revising paragraphs (b)(2) and (c)(4)(ii) to read as follows:

63.7938 How do I demonstrate continuous compliance with the general standards?

* * * * *

(b) * * *

(2) If the remediation material treated or managed by the process vented through the affected process vents has an average total VOHAP less than 10 ppmw according to § 63.7885(c)(1), you must demonstrate continuous compliance by performing a new determination and preparing new documentation as required in § 63.7885(c)(2) to show that the total VOHAP concentration of the remediation material remains less than 10 ppmw.

(c) * * *

(4) * * *

(ii) Monitoring the biological treatment process conducted in each unit according to the requirements in § 63.7886(4)(i).

* * * * *

19. Section 63.7940 is amended by revising paragraph (c) to read as follows:

§ 63.7940 By what date must I conduct performance tests or other initial compliance demonstrations?

* * * * *

(c) For new sources, you must conduct initial performance tests and other initial compliance demonstrations according to the provisions in § 63.7(a)(2).

20. Section 63.7941 is amended as follows:

a. By revising paragraph (c);

b. By revising paragraph (g); and

c. By removing and reserving paragraph (h):

§ 63.7941 How do I conduct a performance test, design evaluation, or other type of initial compliance demonstration?

* * * * *

(c) If you use a carbon adsorption system, condenser, vapor incinerator, boiler, or process heater to meet an emission limit in this subpart, you may choose to perform a design evaluation to demonstrate initial compliance instead of a performance test. You must perform a design evaluation according to the general requirements in § 63.693(b)(8) and the specific requirements in § 63.693(d)(2)(ii) for a carbon adsorption system (including establishing carbon replacement schedules and associated requirements), § 63.693(e)(2)(ii) for a condenser, § 63.693(f)(2)(ii) for a vapor incinerator, or § 63.693(g)(2)(i)(B) for a boiler or process heater.

* * * * *

(g) If you are required to conduct a visual inspection of an affected source, you must conduct the inspection according to the procedures in § 63.906(a)(1) for Tank Level 1 controls, § 63.1063(d) for Tank Level 2 controls, § 63.926(a) for Container Level 1 controls, § 63.946(a) for a surface impoundment equipped with a floating membrane cover, § 63.946(b) for a surface impoundment equipped with a cover and vented to a control device, § 63.1047(a) for a separator with a fixed roof, § 63.1047(c) for a separator equipped with a fixed roof and vented to a control device, § 63.695(c)(1)(i) or (c)(2)(i) for a closed vent system, and § 63.964(a) for individual drain systems.

* * * * *

(h) [Reserved]

* * * * *

21. Section 63.7943 is amended as follows:

a. By revising paragraph (a);

b. By revising paragraph (b) introductory text;

c. By revising paragraphs (b)(1) introductory text and (b)(3); and

d. By revising paragraph (c) introductory text.

§ 63.7943 How do I determine the average VOHAP concentration of my remediation material?

(a) General requirements. You must determine the average total VOHAP concentration of a remediation material using either direct measurement as specified in paragraph (b) of this section or by knowledge as specified in paragraph (c) of this section. These methods may be used to determine the average VOHAP concentration of any material listed in (a)(1) through (3) of this section.

(1) A single remediation material stream; or

(2) Two or more remediation material streams that are combined prior to, or within, a remediation material management unit or treatment process; or

(3) Remediation material that is combined with one or more non-remediation material streams prior to, or within, a remediation material management unit or treatment process.

(b) Direct measurement. To determine the average total VOHAP concentration of a remediation material using direct measurement, you must use the procedures in paragraphs (b)(1) through (3) of this section.

(1) Sampling. Samples of each material stream must be collected from the container, pipeline, or other device used to deliver each material stream prior to entering the remediation material management unit or treatment process in a manner such that volatilization of organics contained in the sample is minimized and an adequately representative sample is collected and maintained for analysis by the selected method.

* * * * *

(3) Calculations. The average total VOHAP concentration (C̄) on a mass-weighted basis must be calculated by using the results for all samples analyzed according to paragraph (b)(2) of this section and Equation 1 of this section as follows:

Where:

C̄ = Average VOHAP concentration of the material on a mass-weighted basis, ppmw.

i = Individual sample “i” of the material.

n = Total number of samples of the material collected (at least 4 per stream) for the averaging period (not to exceed 1 year).

Qi = Mass quantity of material stream represented by Ci, kilograms per hour (kg/hr).

QT = Total mass quantity of all material during the averaging period, kg/hr.

Ci = Measured VOHAP concentration of sample “i” as determined according to the requirements of paragraph (b)(2) of this section, ppmw.

(c) Knowledge of the material. To determine the average total VOHAP concentration of a remediation material using knowledge, you must use the procedures in paragraphs (c)(1) through (3) of this section.

* * * * *

22. Section 63.7950 is amended by revising paragraph (c) to read as follows:

§ 63.7950 What notifications must I submit and when?

* * * * *

(c) As specified in § 63.9(b)(3), if you start up your new or reconstructed affected source on or after the effective date, you must submit an Initial Notification no later than 120 calendar days after initial startup.

* * * * *

23. Section 63.7956 is amended by revising paragraph (c) introductory text to read as follows:

§ 63.7956 Who implements and enforces this subpart?

* * * * *

(c) The authorities that cannot be delegated to State, local, or tribal agencies are listed in paragraphs (c)(1) through (4) of this section.

* * * * *

24. Section 63.7957 is amended by removing the definition of “Point-of-extraction” and revising the definitions of “deviation” and “transfer system” to read as follows:

§ 63.7957 What definitions apply to this subpart?

* * * * *

Deviation means any instance in which an affected source subject to this subpart, or an owner or operator of such a source:

(1) Fails to meet any requirement or obligation established by this subpart, including but not limited to any emissions limitation (including any operating limit), or work practice standard;

(2) Fails to meet any term or condition that is adopted to implement an applicable requirement in this subpart and that is included in the operating permit for any affected source required to obtain such a permit; or

(3) Fails to meet any emissions limitation, (including any operating limit), or work practice standard in this subpart during startup, shutdown, or malfunction, regardless of whether or not such failure is permitted by this subpart.

* * * * *

Transfer system means a stationary system for which the predominant function is to convey liquids or solid materials from one point to another point within a waste management operation or recovery operation. For the purpose of this subpart, the conveyance of material using a container (as defined for this subpart) or a self-propelled vehicle (e.g., a front-end loader) is not a transfer system. Examples of a transfer system include but are not limited to a pipeline, an individual drain system, a gravity-operated conveyor (such as a chute), and a mechanically-powered conveyor (such as a belt or screw conveyor).

* * * * *

25. Table 1 to Subpart GGGGG of Part 63 is revised to read as follows:

Table 1 to Subpart GGGGG of Part 63.—List of Hazardous Air Pollutants
CAS No.ᵃ | Compound name | Fm 305
75070 | Acetaldehyde | 1.000
75058 | Acetonitrile | 0.989
98862 | Acetophenone | 0.314
98862 | Acetophenone | 0.314
107028 | Acrolein | 1.000
107131 | Acrylonitrile | 0.999
107051 | Allyl chloride | 1.000
71432 | Benzene (includes benzene in gasoline) | 1.000
98077 | Benzotrichloride (isomers and mixture) | 0.958
100447 | Benzyl chloride | 1.000
92524 | Biphenyl | 0.864
542881 | Bis(chloromethyl)ether ᵇ | 0.999
75252 | Bromoform | 0.998
106990 | 1,3-Butadiene | 1.000
75150 | Carbon disulfide | 1.000
56235 | Carbon Tetrachloride | 1.000
43581 | Carbonyl sulfide | 1.000
133904 | Chloramben | 0.633
108907 | Chlorobenzene | 1.000
67663 | Chloroform | 1.000
107302 | Chloromethyl methyl ether ᵇ | 1.000
126998 | Chloroprene | 1.000
98828 | Cumene | 1.000
94757 | 2,4-D, salts and esters | 0.167
334883 | Diazomethane ᶜ | 0.999
132649 | Dibenzofurans | 0.967
96128 | B1,2-Dibromo-3-chloropropane | 1.000
106467 | 1,4-Dichlorobenzene(p) | 1.000
107062 | Dichloroethane (Ethylene dichloride) | 1.000
111444 | Dichloroethyl ether (Bis(2-chloroethylether) | 0.757
542756 | 1,3-Dichloropropene | 1.000
64675 | Diethyl sulfate | 0.0025
79447 | Dimethyl carbamoyl chloride ᶜ | 0.150
77781 | Dimethyl sulfate | 0.086
121697 | N,N-Dimethylaniline | 0.0008
51285 | 2,4-Dinitrophenol | 0.0077
121142 | 2,4-Dinitrotoluene | 0.0848
123911 | 1,4-Dioxane (1,4-Diethyleneoxide) | 0.869
106898 | Epichlorohydrin (1-Chloro-2,3-epoxypropane) | 0.939
106887 | 1,2-Epoxybutane | 1.000
140885 | Ethyl acrylate | 1.000
100414 | Ethyl benzene | 1.000
75003 | Ethyl chloride (Chloroethane) | 1.000
106934 | Ethylene dibromide (Dibromoethane) | 0.999
107062 | Ethylene dichloride (1,2-Dichloroethane) | 1.000
151564 | Ethylene imine (Aziridine) | 0.867
75218 | Ethylene oxide | 1.000
75343 | Ethylidene dichloride (1,1-Dichloroethane) Glycol ethers ᵈ that have a Henry's Law Constant value equal to or greater than 0.01 Y/X(1.8 × 10⁻⁶ atm/gm-mole/m³) at 25°C | 1.000 [ᵉ]
118741 | Hexachlorobenzene | 0.97
87683 | Hexachlorobutadiene | 0.88
67721 | Hexachloroethane | 0.499
110543 | Hexane | 1.000
78591 | Isophorone | 0.506
58899 | Lindane (all isomers) | 1.000
67561 | Methanol | 0.855
74839 | Methyl bromide (Bromomethane) | 1.000
74873 | Methyl chloride (Choromethane) | 1.000
71556 | Methyl chloroform (1,1,1-Trichloroethane) | 1.000
74884 | Methyl iodide (Iodomethane) | 1.000
108101 | Methyl isobutyl ketone (Hexone) | 0.979
624839 | Methyl isocyanate | 1.000
80626 | Methyl methacrylate | 0.999
1634044 | Methyl tert butyl ether | 1.000
75092 | Methylene chloride (Dichloromethane) | 1.000
91203 | Naphthalene | 0.994
98953 | Nitrobenzene | 0.394
79469 | 2-Nitropropane | 0.989
82688 | Pentachloronitrobenzene (Quintobenzene) | 0.839
87865 | Pentachlorophenol | 0.0898
75445 | Phosgene ᶜ | 1.000
123386 | Propionaldehyde | 0.999
78875 | Propylene dichloride (1,2-Dichloropropane) | 1.000
75569 | Propylene oxide | 1.000
75558 | 1,2-Propylenimine (2-Methyl aziridine) | 0.945
100425 | Styrene | 1.000
96093 | Styrene oxide | 0.830
79345 | 1,1,2,2-Tetrachloroethane | 0.999
127184 | Tetrachloroethylene (Perchloroethylene) | 1.000
108883 | Toluene | 1.000
95534 | o-Toluidine | 0.152
120821 | 1,2,4-Trichlorobenzene | 1.000
71556 | 1,1,1-Trichloroethane (Methyl chlorform) | 1.000
79005 | 1,1,2-Trichloroethane (Vinyltrichloride) | 1.000
79016 | Trichloroethylene | 1.000
95954 | 2,4,5-Trichlorophenol | 0.0108
88062 | 2,4,6-Trichlorophenol | 0.0132
121448 | Triethylamine | 1.000
540841 | 2,2,4-Trimethylpentane | 1.000
108054 | Vinyl acetate | 1.000
593602 | Vinyl bromide | 1.000
75014 | Vinyl chloride | 1.000
75354 | Vinylidene chloride (1,1-Dichloroethylene) | 1.000
1330207 | Xylenes (isomers and mixture) | 1.000
95476 | o-Xylenes | 1.000
108383 | m-Xylenes | 1.000
106423 | p-Xylenes | 1.000
Notes:
Fm 305 Fraction measure factor in Method 305, 40 CFR 305 part 63, appendix A.
ᵃ CAS numbers refer to the Chemical Abstracts Services registry number assigned to specific compounds, isomers, or mixtures of compounds.
ᵇ Denotes a HAP that hydrolyzes quickly in water, but the hydrolysis products are also HAP chemicals.
ᶜ Denotes a HAP that may react violently with water.
ᵈ Denotes a HAP that hydrolyzes slowly in water.
ᵉ The Fm 305 factors for some of the more common glycol 305 ethers can be obtained by contacting the Waste and Chemical Processes Group, Office of Air Quality Planning and Standards, Research Triangle Park, NC 27711.

26. Table 3 is amended by revising the entries for “63.7(c)”, “63.8(c)(1)(i)”, and “63.8(c)(6)” to read as follows:

Table 3 to Subpart GGGGG of Part 63.—Applicability of General Provisions to Subpart GGGGG
* * * * *
Citation | Subject | Brief description | Applies to subpart GGGGG
* * * * * * *
§ 63.7(c) | Quality Assurance/Test Plan | Requirement to submit site-specific test plan 60 days before the test or on date Administrator agrees with: Test plan approval procedures; performance audit requirements; internal and external QA procedures for testing | Yes.
* * * * * * *
§ 63.8(c)(1)(i) | Routine and Predictable SSM | Keep parts for routine repairs available; reporting requirements for SSM when action is described in SSM plan | Yes.
* * * * * * *
§ 63.8(c)(6) | CMS Requirements | Zero and High level calibration check requirements | Yes. However requirements for CPMS are addressed in § 63.7927.
* * * * * * *

[FR Doc. E6-20119 Filed 11-28-06; 8:45 am]

BILLING CODE 6560-50-P